DEPARTMENT OF ENERGY

Federal Energy Regulatory Commission

[Project No. 15021-000]

Bard College, New York; Notice of Application Tendered for Filing With the Commission and Soliciting Additional Study Requests

Take notice that the following hydroelectric application has been filed with the Commission and is available for public inspection.

a. Type of Application: Exemption from Licensing.

b. Project No.: 15021-000.

c. Date Filed: December 23, 2019.

d. Applicant: Bard College, New York.

e. Name of Project: Annandale Micro Hydropower Project.

f. Location: On Saw Kill, a tributary of the Hudson River, in the Town of Red Hook, Dutchess County, New York. The project does not occupy federal land.

g. Filed Pursuant to: Public Utility Regulatory Policies Act of 1978, 16 U.S.C. 2705, 2708 (2018), amended by the Hydropower Regulatory Efficiency Act of 2013, Public Law 113-23, 127 Stat. 493 (2013).

h. Applicant Contact: Randy Clum, Director, Buildings and Grounds, Bard College, 30 Campus Road, Annandale-on-Hudson, NY 12504; and/or Joel Herm/Jan Borchert, Current Hydro, Inc., P.O. Box 224, Rhinebeck, NY 12572.

i. FERC Contact: Monir Chowdhury at (202) 502-6736; or email at monir.chowdhury@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: March 9, 2020.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-15021-000.

m. This application is not ready for environmental analysis at this time.

n. The proposed project would consist of: (1) An existing 240-foot-long dam that impounds a 3-acre reservoir; (2) three new 6-foot-diameter, 9.5-foot-high concrete cylindrical tanks, each housing a 4-kilowatt gravitational vortex turbine-generator unit; (3) a new 240-volt, 60-foot-long transmission line; and (4) appurtenant facilities. The project is estimated to generate an average of 61 megawatt-hours annually. The applicant proposes to operate the project in a run-of-river mode.

o. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate (e.g., if there are no deficiencies or a need for additional information, the schedule would be shortened).

Issue Notice of Acceptance | March 2020.
Issue Scoping Document 1 for comments | April 2020.
Comments on Scoping Document 1 | May 2020.
Issue Scoping Document 2 (if necessary) | June 2020.
Issue Notice of Ready for Environmental Analysis | June 2020.
Commission issues EA | December 2020.

Dated: January 8, 2020.
Kimberly D. Bose,
Secretary.

[FR Doc. 2020-00388 Filed 1-13-20; 8:45 am]

BILLING CODE 6717-01-P